DEPARTMENT OF COMMERCE

National Oceanic and Atmospheric Administration

RIN 0648-XJ33

Endangered and Threatened Species; Take of Anadromous Fish

AGENCY: National Marine Fisheries Service (NMFS), National Oceanic and Atmospheric Administration (NOAA), Commerce.

ACTION: Notice of availability and request for comment.

SUMMARY: Notice is hereby given that NMFS has received an application from the Washington Department of Fish and Wildlife (WDFW), for a direct take permit pursuant to the Endangered Species Act of 1973, as amended (ESA). The duration of the proposed Permit is ten years. This document serves to notify the public of the availability for comment of the permit application. All comments received will become part of the public record and will be available for review pursuant to the ESA.

DATES: Written comments on the application and draft EA must be received at the appropriate address or fax number (see ADDRESSES) no later than 5 p.m. Pacific daylight time on September 2, 2008.

ADDRESSES: Written comments on the application should be sent to Richard Turner, National Marine Fisheries Services, Salmon Recovery Division, 1201 N.E. Lloyd Boulevard, Suite 1100, Portland, OR 97232. Comments may also be submitted by e-mail to: graysriver.nwr@noaa.gov. Include in the subject line of the e-mail comment the following identifier: Comments on Grays River program. Comments may also be sent via facsimile (fax) to (503) 872-2737. Requests for copies of the permit application should be directed to the National Marine Fisheries Services, Salmon Recovery Division, 1201 NE Lloyd Boulevard, Suite 1100, Portland, OR 97232. The documents are also available on the Internet at www.nwr.noaa.gov. Comments received will also be available for public inspection, by appointment, during normal business hours by calling (503) 736-4737.

FOR FURTHER INFORMATION CONTACT: Richard Turner at (503) 736-4737 or e-mail: rich.turner@noaa.gov.

SUPPLEMENTARY INFORMATION: This notice is relevant to the following species and evolutionarily significant units (ESUs) or distinct population segments (DPSs)

Chinook salmon (Oncorhynchus. tshawytscha): threatened, Lower Columbia River

Coho salmon (O. kisutch): threatened, Lower Columbia River

Chum salmon (O. keta): threatened, Columbia River

Background

Section 9 of the ESA and Federal regulations prohibit the "taking" of a species listed as endangered or threatened. The term "take" is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

NMFS expects to take action on a ESA section 10(a)(1)(A) submittal received from the applicant. In an application received on July 11, 2008, WDFW submitted an application to NMFS for an ESA section 10(a)(1)(A) permit for the direct take of ESA-listed threatened Lower Columbia River Chinook salmon, Lower Columbia River Coho salmon, and Columbia River Chum salmon from the Grays River in Wahkiakum County, Washington. A temporary weir will be installed in the lower Grays River in order to complement existing adult salmonid monitoring efforts in the Grays River in developing accurate and precise estimates of total abundance, and to promote recovery of the Grays River fall Chinook salmon population through the removal of non-local hatchery Chinook salmon.

This notice is provided pursuant to section 10(c) of the ESA. NMFS will evaluate the application, associated documents, and comments submitted thereon to determine whether the application meets the requirements of section 10(a)(1)(A) of the ESA. If it is determined that the requirements are met, a permit will be issued to the WDFW for the purpose of carrying out the research program. NMFS will publish a record of its final action in the Federal Register.

Dated: July 25, 2008.
Angela Somma,
Chief, Endangered Species Division, Office of Protected Resources, National Marine Fisheries Service.

[FR Doc. E8-17570 Filed 7-30-08; 8:45 am]

BILLING CODE 3510-22-S